FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011729

Title: CMA-CGM/Norasia Slot Charter Agreement

Parties:

CMA-CGM S.A.(“CMA-CGM”)

Norasia Container Lines Ltd. (“Norasia”)

Synopsis: The proposed agreement authorizes CMA-CGM to charter space to Norasia on its vessels operating in the trade between the port of Los Angeles and ports in Japan, Korea and China. The agreement will expire on May 1, 2001 unless earlier terminated. The parties have requested expedited review.

Agreement No.: 011730

Title: The GWF/Dole Space Charter Agreement

Parties:

Great White Fleet (“GWF”)

Dole Ocean Cargo Express, Inc. (“Dole”)

Synopsis: The proposed Agreement would permit Dole to charter space to GWF in the trade between Freeport, Texas, and inland U.S. points via Freeport, and ports in Guatemala and Honduras, and inland points via those ports.

Agreement No.: 011731

Title: FOML/Great Western Agreement.

Parties:

Fesco Ocean Management Ltd.

Great Western Steamship Company.

Synopsis: The proposed agreement authorizes the parties to charter space to and from each other on their respective vessels operating in the trade between United States Pacific Coast ports and ports in the Far East. The parties have requested expedited review.

Dated: October 20, 2000.
By Order of the Federal Maritime Commission
Bryant L. VanBrakle,
Secretary.

[FR Doc. 00-27434 Filed 10-24-00; 8:45 am]

BILLING CODE 6730-01-P